DEPARTMENT OF HEALTH AND HUMAN SERVICES

National Institutes of Health

Submission for OMB Review; Comment Request; Generic Submission of Technology Transfer Center (TTC) External Customer Satisfaction Surveys (NCI)

SUMMARY: Under the provisions of Section 3507(a)(1)(D) of the Paperwork Reduction Act of 1995, the National Cancer Institute (NCI), the National Institutes of Health (NIH), has submitted to the Office of Management and Budget (OMB) a request to review and approve the information collection listed below. This proposed information collection was previously published in the Federal Register on December 23, 2010 (75 FR 80830) and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Generic Submission of Technology Transfer Center (TTC) External Customer Satisfaction Surveys (NCI). Type of Information Collection Request: New. Need and Use of Information Collection: The purpose of these web-based surveys are to: obtain information on the satisfaction of TTC's external customers with TTC customer services; collect information of preferred and expected communications channels of TTC's external customers; and assess the strategic direction of companies engaging in collaborations and alliances with the NIH. The needs of external technology transfer customers and stakeholders have never been assessed systematically. Input from these groups is essential for defining workflow process improvements for services provided by the NCI TTC to the research community. The results will be used to strengthen the operations of the NCI TTC, including the Competitive Service Center. This questionnaire adheres to The Public Health Service Act, Section 413 (42 USC 285a-2) which authorizes the Director of the National Cancer Institute in carrying out the National Cancer Program to “encourage and coordinate cancer research by industrial concerns where such concerns evidence a particular capability for such research;” Frequency of Response: Once. Affected Public: Private Sector. Type of Respondents: Managers, Executives and Directors from Foundations, Not-for-Profit and For-profit organizations that conduct research and development in biomedical applications. The three year reporting burden is estimated in Table 1, as is a standard request for generic submissions. There are no Capital Costs, Operating Costs, and/or Maintenance Costs to report.

Table 1—Estimates of Burden Hours Over Three Years (Generic Submission)
Type of respondents | Number of respondents | Frequency of response | Average time per response (minutes/hour) | Annual hour burden
Managers, Executives, and Directors | 4,000 | 1 | 20/60 (0.33) | 1,333

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Attention: NIH Desk Officer, Office of Management and Budget, at OIRA_submission@omb.eop.gov or by fax to 202-395-6974. To request more information on the proposed project or to obtain a copy of the data collection plans and instruments, contact John D. Hewes, Ph.D., Technology Transfer Specialist, Technology Transfer Center, National Cancer Institute, 6120 Executive Blvd., MSC 7181, Suite 450, Rockville, MD 20852 or call non-toll-free number 301-435-3121 or e-mail your request, including your address to: hewesj@mail.nih.gov.

Comments Due Date: Comments regarding this information collection are best assured of having their full effect if received within 30 days of the date of this publication.

Dated: February 17, 2011.
Vivian Horovitch-Kelley,
NCI Project Clearance Liaison Office, National Institutes of Health.

[FR Doc. 2011-4600 Filed 3-1-11; 8:45 am]

BILLING CODE 4140-01-P